DEPARTMENT OF COMMERCE

Office of the Under-Secretary for Economic Affairs

15 CFR Part 1500

[Docket No.: 210820-0165]

RIN: 0605-AA53

Concrete Masonry Products Research, Education, and Promotion Order

AGENCY: Under-Secretary for Economic Affairs, United States Department of Commerce.

ACTION: Final rule; correction.

SUMMARY: This action contains a correction to the final rule published on September 15, 2021, setting forth the Concrete Masonry Products Research, Education, and Promotion Order, as authorized by the Concrete Masonry Products Research, Education, and Promotion Act of 2018, which establishes a Concrete Masonry Products Board (Board) composed of industry members appointed by the Secretary of Commerce (Secretary) to develop and implement programs of research, education, and promotion in the concrete masonry products industry. This action corrects email contact information found in the previously published rule.

DATES: October 6, 2021.

FOR FURTHER INFORMATION CONTACT: Mr. Michael Thompson, Communications for the Commerce Checkoff Implementation Program, Office of the Under Secretary for Economic Affairs, telephone: (202) 482-0671 or via electronic mail: michael.thompson@trade.gov.

SUPPLEMENTARY INFORMATION: The Department of Commerce published a final rule on September 15, 2021 (86 FR 51456), establishing a Concrete Masonry Products Research, Education, and Promotion Order, as authorized by the Concrete Masonry Products Research, Education, and Promotion Act of 2018. The final rule incorrectly reported the email address found in the For Further Information Contact section of the rule. Please see the corrected email address in the FOR FURTHER INFORMATION CONTACT section of this correction.

Dated: September 30, 2021.
Kenneth White,
Senior Policy Analyst, Under Secretary for Economic Affairs.

[FR Doc. 2021-21788 Filed 10-5-21; 8:45 am]

BILLING CODE 3510-20-P